DEPARTMENT OF DEFENSE

Office of the Secretary

[Docket ID: DOD-2016-OS-0093]

Privacy Act of 1974; System of Records

AGENCY: Office of the Secretary of Defense, DoD.

ACTION: Notice to alter a System of Records.

SUMMARY: Pursuant to the Privacy Act of 1974, 5 U.S.C. 552a, and Office of Management and Budget (OMB) Circular No. A-130, notice is hereby given that the Office of the Secretary of Defense (OSD) proposes to alter a system of records, DUSDI 01-DoD, “Department of Defense (DoD) Insider Threat Management and Analysis Center (DITMAC) and DoD Component Insider Threat Records System,” last published at 81 FR 31614, May 19, 2016.

This system of records exists to: Analyze, monitor, and audit insider threat information for insider threat detection and mitigation within the DoD on threats that persons who have or had been granted eligibility for access to classified information or eligibility to hold sensitive positions may pose to DoD and U.S. Government installations, facilities, personnel, missions, or resources. The system of records will support the DITMAC and DoD Component insider threat programs, enable the identification of systemic insider threat issues and challenges, and provide a basis for the development and recommendation of solutions to deter, detect, and/or mitigate potential insider threats. It will assist in identifying best practices among other Federal Government insider threat programs, through the use of existing DoD resources and functions and by leveraging existing authorities, policies, programs, systems, and architectures.

This alteration reflects a change to the categories of individuals by removing the phrase: And who have exhibited actual, probable, or possible indications of insider threat behaviors or activities. Public Law 112-81, 10 U.S.C. 2224 note, Insider Threat Detection, requires the Department to detect and prevent insider threats in order to protect sensitive information and information systems. This authority requires the Department to employ anomaly detection techniques, which logically require ingestion of non-anomalous information in order to identify anomalous information. Accordingly, the individuals subject to the DoD Insider Threat program are those individuals who had or have been granted eligibility or access to classified information.

DATES: Comments will be accepted on or before October 24, 2016. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Cindy Allard, Chief of the Defense Privacy, Civil Liberties, and Transparency Division, 703-571-0070.

SUPPLEMENTARY INFORMATION: The Office of the Secretary of Defense notices for systems of records subject to the Privacy Act of 1974 (5 U.S.C. 552a), as amended, have been published in the Federal Register and are available from the address in FOR FURTHER INFORMATION CONTACT or at the Defense Privacy, Civil Liberties, and Transparency Division Web site at http://dpcld.defense.gov/.

The proposed system report, as required by 5 U.S.C. 552a(r) of the Privacy Act of 1974, as amended, was submitted on September 2, 2016, to the House Committee on Oversight and Government Reform, the Senate Committee on Governmental Affairs, and the Office of Management and Budget (OMB) pursuant to paragraph 4 of Appendix I to OMB Circular No.A-130, “Federal Agency Responsibilities for Maintaining Records About Individuals,” revised November 28, 2000 (December 12, 2000, 65 FR 77677).

The Department received comments from five submitters related to the initial publication of the Privacy Act System of Records Notice for the Department of Defense (DoD) Insider Threat Management and Analysis Center (DITMAC) and DoD Component Insider Threat Records System. A response to the comments received has been posted to the electronic docket under docket ID DOD-2016-OS-0060 on http://www.regulations.gov.

Although a change is being published to the categories of individuals, this resulted from further review of the published system of records notice and not the comments received.

Dated: September 19, 2016.
Aaron Siegel,
Alternate OSD Federal Register Liaison Officer, Department of Defense.

DUSDI 01-DoD

System name:

Department of Defense (DoD) Insider Threat Management and Analysis Center (DITMAC) and DoD Component Insider Threat Records System (May 19, 2016, 81 FR 31614).

Changes:

1. In the Federal Register of May 19, 2016, in FR Doc. 2016-11703, on page 31615, in the first column, lines 5 through 8 of the first paragraph under the section title Categories of Individuals Covered by the System, remove the phrase “, and who have exhibited actual, probable, or possible indications of insider threat behaviors or activities”.

2. In the Federal Register of May 19, 2016, in FR Doc. 2016-11703, on page 31615, in the second column, lines 6 through 8 of the second paragraph under the section title Categories of Individuals Covered by the System, remove the phrase “, and who have exhibited actual, probable, or possible indications of insider threat behaviors or activities”.

3. In the Federal Register of May 19, 2016, in FR Doc. 2016-11703, on page 31615, in the second column, lines 10 through 12 of the third paragraph under the section title Categories of Individuals Covered by the System, remove the phrase “, who have exhibited actual, probable, or possible indications of insider threat behaviors or activities”.

[FR Doc. 2016-22903 Filed 9-22-16; 8:45 am]

BILLING CODE 5001-06-P